DEPARTMENT OF ENERGY

Federal Energy Regulatory Commission

[Project No. 3267-000]

ECOsponsible, LLC; Notice of Authorization for Continued Project Operation

The license for the Ballard Mill Hydroelectric Project No. 3267, located on the Salmon River, in the Town of Malone, Franklin County, New York, was issued for a period ending March 31, 2022.¹ Section 15(a)(1) of the FPA, 16 U.S.C. 808(a)(1), requires the Commission, at the expiration of a license term, to issue from year-to-year an annual license to the then licensee(s) under the terms and conditions of the prior license until a new license is issued, or the project is otherwise disposed of as provided in section 15 or any other applicable section of the FPA. If, as is the case here, the project's prior license waived the applicability of section 15 of the FPA, then, based on section 9(b) of the Administrative Procedure Act, 5 U.S.C. 558(c), and as set forth at 18 CFR 16.21(b), if the licensee has not filed an application for a subsequent license, the Commission may issue an order requiring the licensee to continue to operate the project, in accordance with the terms and conditions of the license, until the Commission either acts on any applications for subsequent license timely filed by another entity or takes action pursuant to 18 CFR 16.25 or 16.26.

¹ Greater Malone Community Council, Inc., 19 FERC ¶ 62,086 (1982).

ECOsponsible, LLC, licensee for the project, has failed to file an acceptable license application.²

² On March 31, 2020, ECOsponsible filed an Application for a Subsequent Minor License. On April 7, 2021, the Director, Division of Hydropower Licensing rejected the license application. ECOsponsible did not seek rehearing of that order. On September 23, 2021, Commission staff directed the licensee to file a surrender application within 60 days, noting that its subsequent license application was rejected. On March 15, 2022, Commission staff again requested the licensee to file a surrender application. The licensee has not filed a surrender application.

Accordingly, notice is hereby given that ECOsponsible, LLC., is authorized to continue operation of the Ballard Mill Hydroelectric Project, until such time as the Commission either acts on any applications for subsequent license timely filed by another entity, takes action pursuant to 18 CFR 16.25 or 16.26, or other disposition under the FPA.

Dated: April 5, 2022.
Kimberly D. Bose,
Secretary.

[FR Doc. 2022-07733 Filed 4-11-22; 8:45 am]

BILLING CODE 6717-01-P